DEPARTMENT OF TRANSPORTATION

Federal Aviation Administration

14 CFR Part 39

[Docket No. FAA-2012-0939; Directorate Identifier 2011-NM-200-AD; Amendment 39-17298; AD 2012-26-03]

RIN 2120-AA64

Airworthiness Directives; Airbus Airplanes

AGENCY: Federal Aviation Administration (FAA), Department of Transportation (DOT).

ACTION: Final rule.

SUMMARY: We are adopting a new airworthiness directive (AD) for certain Airbus Model A330-202, -203, -223, -243, -302, -323, -342, and -343 airplanes; and Model A340-313 airplanes. This AD was prompted by reports that a specific batch of cargo doors might have deviations in quality related to door structure, such as irregular bore holes, improper application of sealant and paint, or uncleanliness. This AD requires inspecting to identify the part and serial numbers of the forward and aft cargo doors, and replacing the affected cargo doors. We are issuing this AD to prevent the degraded structural capability of the cargo door, a primary structure, from leading to failure of the door, which could lead to a breach through the door or the door detaching from the airplane, resulting in potential rapid decompression.

DATES: This AD becomes effective February 6, 2013.

The Director of the Federal Register approved the incorporation by reference of certain publications listed in this AD as of February 6, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on September 20, 2012 (77 FR 58336). That NPRM proposed to correct an unsafe condition for the specified products. The Mandatory Continuing Airworthiness Information (MCAI) states:

Investigations have shown that a specific batch of cargo doors might have deviations in quality, such as irregular bore holes, improper application of sealant and paint or cleanliness. These production deviations are related to the quality of the door structure.

This condition, if not corrected, may degrade the structural integrity of the affected Forward (Fwd) and Aft cargo doors.

For the reasons described above, this [European Aviation Safety Agency (EASA)] AD requires a one-time inspection to identify the [part and serial numbers of the] Fwd and Aft cargo doors, and replacement of the affected cargo doors.

* * * * *

The unsafe condition is the degraded structural capability of the cargo door, a primary structure, which could lead to failure of the door, which could detach from the airplane or have a breach through the door, resulting in potential rapid decompression. Required actions include contacting the FAA or EASA (or its delegated agent) for repair instructions for any door part/serial number that cannot be identified for a specified airplane. You may obtain further information by examining the MCAI in the AD docket.

Comments

We gave the public the opportunity to participate in developing this AD. We received no comments on the NPRM (77 FR 58336, September 20, 2012) or on the determination of the cost to the public.

Conclusion

We reviewed the available data and determined that air safety and the public interest require adopting the AD as proposed, except for minor editorial changes. We have determined that these minor changes:

• Are consistent with the intent that was proposed in the NPRM (77 FR 58336, September 20, 2012) for correcting the unsafe condition; and

• Do not add any additional burden upon the public than was already proposed in the NPRM (77 FR 58336, September 20, 2012).

Costs of Compliance

We estimate that this AD will affect about 6 products of U.S. registry. We also estimate that it will take about 2 work-hours per product to comply with the basic requirements of this AD. The average labor rate is $85 per work-hour. Based on these figures, we estimate the cost of this AD to the U.S. operators to be $1,020, or $170 per product.

In addition, we estimate that any necessary follow-on actions would take about 52 work-hours and require parts costing $0, for a cost of $4,420 per product. The manufacturer has agreed to reimburse these labor costs. Where the service information lists required parts costs that are covered under warranty, we have assumed that there will be no charge for these parts. As we do not control warranty coverage for affected parties, some parties may incur costs higher than estimated here. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 58336, September 20, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-26-03 Airbus: Amendment 39-17298. Docket No. FAA-2012-0939; Directorate Identifier 2011-NM-200-AD.

(a) Effective Date

This airworthiness directive (AD) becomes effective February 6, 2013.

(b) Affected ADs

None.

(c) Applicability

This AD applies to Airbus airplanes, certificated in any category, as identified in paragraphs (c)(1) and (c)(2) of this AD.

(1) Model A330-202, -203, -223, -243, -302, -323, -342, and -343 airplanes, manufacturer serial numbers (MSN) 0796, 0832, 0840, 0845, 0849, 0853, 0855, 0861, 0862, 0866, 0868, 0871, 0873, 0876, 0879, 0882, 0885, 0887, 0889, 0891, 0892, 0896, 0898, 0899, 0903, 0904, 0905, 0907, 0913, 0927, 0930, 0935, 0936, 0937, 0940, 0943, 0944, 0946, 0949, 0952, 0954, 0964, 0971, 0975, 0982 through 0986 inclusive, 0988, 0989, 0990, 0992, 0994, 0995, 0997, 0998, 0999, 1001, 1002, 1003, 1006, 1007, 1009 through 1016 inclusive, 1018, 1020, 1022, 1023, 1026, 1028, 1029, 1037, 1045, 1049, 1052, 1053, 1055, 1058, 1060, 1061, 1065 through 1067 inclusive, 1071 through 1075 inclusive, 1077, 1080, and 1082.

(2) Model A340-313 airplanes, MSN 0955.

(d) Subject

Air Transport Association (ATA) of America Code 52: Doors.

(e) Reason

This AD was prompted by reports that a specific batch of cargo doors might have deviations in quality related to door structure, such as irregular bore holes, improper application of sealant and paint, or uncleanliness. We are issuing this AD to prevent the degraded structural capability of the cargo door, a primary structure, from leading to failure of the door, which could detach from the airplane or have a breach through the door, resulting in potential rapid decompression.

(f) Compliance

You are responsible for having the actions required by this AD performed within the compliance times specified, unless the actions have already been done.

(g) Inspection

At the later of the times specified in paragraphs (g)(1) and (g)(2) of this AD: Inspect to identify the part number and serial number of the airplane's forward and aft cargo doors, as applicable to MSN, in accordance with the Accomplishment Instructions of Airbus Mandatory Service Bulletin A330-52-3083, dated May 31, 2011 (for Model A330 airplanes); or Airbus Mandatory Service Bulletin A340-52-4093, dated May 31, 2011 (for Model A340 airplanes). A review of airplane maintenance records is acceptable in lieu of this inspection if the part number and serial number of the door can be conclusively determined from that review.

(1) Prior to the accumulation of 7,400 total flight cycles, or 72 months after the airplane's first flight, whichever occurs first.

(2) Within 60 days after the effective date of this AD.

(h) Replacement

If, during the inspection required by paragraph (g) of this AD, the part number and serial number of the airplane's forward and/or aft cargo doors, as applicable to airplane MSN, are identified in Airbus Mandatory Service Bulletin A330-52-3083, dated May 31, 2011 (for Model A330 airplanes); or Airbus Mandatory Service Bulletin A340-52-4093, dated May 31, 2011 (for Model A340 airplanes): Before further flight, replace the affected door with a new or serviceable door, in accordance with the Accomplishment Instructions of Airbus Mandatory Service Bulletin A330-52-3083, dated May 31, 2011 (for Model A330 airplanes); or Airbus Mandatory Service Bulletin A340-52-4093 (for Model A340 airplanes), dated May 31, 2011.

(i) Repair

If, during the inspection required by paragraph (g) of this AD, there is any discrepancy between the installed forward and/or aft cargo doors part/serial number and the airplane MSN, as that part/serial number and MSN are identified in Airbus Mandatory Service Bulletin A330-52-3083, dated May 31, 2011 (for Model A330 airplanes); or Airbus Mandatory Service Bulletin A340-52-4093, dated May 31, 2011 (for Model A340 airplanes): Within 10 days after accomplishing the inspection, contact the Manager, International Branch, ANM-116, Transport Airplane Directorate, FAA, or the European Aviation Safety Agency (EASA) (or its delegated agent), for further instructions and time limits, and accomplish those instructions within the specified time limits.

(j) Parts Installation Prohibition

As of the effective date of this AD, no person may install on any airplane a forward or aft cargo door that was removed from any airplane as required by paragraph (h) of this AD.

(k) Other FAA AD Provisions

The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

Refer to MCAI EASA Airworthiness Directive 2011-0177, dated September 15, 2011 (corrected September 28, 2011), and the service information identified in paragraphs (l)(1) and (l)(2) of this AD, for related information.

(1) Airbus Mandatory Service Bulletin A330-52-3083, dated May 31, 2011.

(2) Airbus Mandatory Service Bulletin A340-52-4093, dated May 31, 2011.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Mandatory Service Bulletin A330-52-3083, dated May 31, 2011.

(ii) Airbus Mandatory Service Bulletin A340-52-4093, dated May 31, 2011.

(3) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 14, 2012.
Kalene C. Yanamura,
Acting Manager, Transport Airplane Directorate, Aircraft Certification Service.

[FR Doc. 2012-31026 Filed 12-31-12; 8:45 am]

BILLING CODE 4910-13-P